DEPARTMENT OF ENERGY

Federal Energy Regulatory Commission

Combined Notice of Filings #1

Take notice that the Commission received the following electric corporate filings:

Docket Numbers: EC21-95-000.

Applicants: Saavi Energy Solutions, LLC, Baja California Power, Inc.

Description: Application for Authorization Under Section 203 of the Federal Power Act of Saavi Energy Solutions, LLC, et al.

Filed Date: 5/17/21.

Accession Number: 20210517-5209.

Comments Due: 5 p.m. ET 6/7/21.

Take notice that the Commission received the following electric rate filings:

Docket Numbers: ER17-1320-002.

Applicants: Odyssey Solar, LLC.

Description: Compliance filing: Odyssey Solar, LLC Notice of Change in Status to be effective 5/19/2021.

Filed Date: 5/18/21.

Accession Number: 20210518-5105.

Comments Due: 5 p.m. ET 6/8/21.

Docket Numbers: ER17-1370-006; ER11-4535-005; ER16-2271-006; ER16-581-007; ER16-582-007; ER21-1254-001.

Applicants: ENGIE Energy Marketing NA, Inc., ENGIE Portfolio Management, LLC, ENGIE Resources LLC, ENGIE Retail, LLC, ENGIE Power & Gas LLC, Genbright LLC.

Description: Notice of Change in Status of ENGIE Energy Marketing NA, Inc., et al.

Filed Date: 5/17/21.

Accession Number: 20210517-5234.

Comments Due: 5 p.m. ET 6/7/21.

Docket Numbers: ER17-2281-001.

Applicants: Swamp Fox Solar, LLC.

Description: Compliance filing: Swamp Fox Solar, LLC Notice of Change in Status to be effective 5/19/2021.

Filed Date: 5/18/21.

Accession Number: 20210518-5102.

Comments Due: 5 p.m. ET 6/8/21.

Docket Numbers: ER17-2282-001.

Applicants: Champion Solar, LLC.

Description: Compliance filing: Champion Solar, LLC Notice of Change in Status to be effective 5/19/2021.

Filed Date: 5/18/21.

Accession Number: 20210518-5104.

Comments Due: 5 p.m. ET 6/8/21.

Docket Numbers: ER19-135-001.

Applicants: Peony Solar LLC.

Description: Compliance filing: Peony Solar, LLC Notice of Change in Status to be effective 5/19/2021.

Filed Date: 5/18/21.

Accession Number: 20210518-5099.

Comments Due: 5 p.m. ET 6/8/21.

Docket Numbers: ER20-64-001.

Applicants: PGR Lessee L, LLC.

Description: Compliance filing: PGR Lessee L, LLC Notice of Change in Status to be effective 5/19/2021.

Filed Date: 5/18/21.

Accession Number: 20210518-5108.

Comments Due: 5 p.m. ET 6/8/21.

Docket Numbers: ER20-65-001.

Applicants: TWE Bowman Solar Project, LLC.

Description: Compliance filing: TWE Bowman Solar Project, LLC Notice of Change in Status to be effective 5/19/2021.

Filed Date: 5/18/21.

Accession Number: 20210518-5107.

Comments Due: 5 p.m. ET 6/8/21.

Docket Numbers: ER20-2528-002.

Applicants: Airport Solar LLC.

Description: Compliance filing: Updated Tariff Records in Docket No. ER20-2528 to be effective 9/28/2020.

Filed Date: 5/18/21.

Accession Number: 20210518-5131.

Comments Due: 5 p.m. ET 6/8/21.

Docket Numbers: ER21-653-001.

Applicants: Centerfield Cooper Solar, LLC.

Description: Compliance filing: Centerfield Cooper Solar, LLC Notice of Change in Status to be effective 5/19/2021.

Filed Date: 5/18/21.

Accession Number: 20210518-5109.

Comments Due: 5 p.m. ET 6/8/21.

Docket Numbers: ER21-654-001.

Applicants: PGR Lessee O, LLC.

Description: Compliance filing: PGR Lessee O, LLC Notice of Change in Status to be effective 5/19/2021.

Filed Date: 5/18/21.

Accession Number: 20210518-5112.

Comments Due: 5 p.m. ET 6/8/21.

Docket Numbers: ER21-856-001.

Applicants: PGR Lessee P, LLC.

Description: Compliance filing: PGR Lessee P, LLC Notice of Change in Status to be effective 5/19/2021.

Filed Date: 5/18/21.

Accession Number: 20210518-5116.

Comments Due: 5 p.m. ET 6/8/21.

Docket Numbers: ER21-857-001.

Applicants: Trent River Solar, LLC.

Description: Compliance filing: Trent River Solar, LLC Notice of Change in Status to be effective 5/19/2021.

Filed Date: 5/18/21.

Accession Number: 20210518-5114.

Comments Due: 5 p.m. ET 6/8/21.

Docket Numbers: ER21-1933-000.

Applicants: ENGIE Power & Gas LLC.

Description: § 205(d) Rate Filing: Notice of Succession to be effective 5/17/2021.

Filed Date: 5/17/21.

Accession Number: 20210517-5165.

Comments Due: 5 p.m. ET 6/7/21.

Docket Numbers: ER21-1934-000.

Applicants: Northern States Power Company, a Minnesota corporation.

Description: § 205(d) Rate Filing: CAPX2020-Fargo-OMA-307-0.1.0 to be effective 7/17/2021.

Filed Date: 5/17/21.

Accession Number: 20210517-5168.

Comments Due: 5 p.m. ET 6/7/21.

Docket Numbers: ER21-1935-000.

Applicants: Arizona Public Service Company.

Description: § 205(d) Rate Filing: Service Agreement No. 390—Transmission Service Agreement with CSE to be effective 5/15/2021.

Filed Date: 5/17/21.

Accession Number: 20210517-5176.

Comments Due: 5 p.m. ET 6/7/21.

Docket Numbers: ER21-1936-000.

Applicants: Tri-State Generation and Transmission Association, Inc.

Description: § 205(d) Rate Filing: Amendment to Service Agreement No. 873 to be effective 5/14/2021.

Filed Date: 5/17/21.

Accession Number: 20210517-5180.

Comments Due: 5 p.m. ET 6/7/21.

Docket Numbers: ER21-1937-000.

Applicants: Altavista Solar, LLC.

Description: § 205(d) Rate Filing: Reactive Supply Service as Rate Schedule FERC No. 1 to be effective 6/1/2021.

Filed Date: 5/17/21.

Accession Number: 20210517-5183.

Comments Due: 5 p.m. ET 6/7/21.

Docket Numbers: ER21-1938-000.

Applicants: Northern Indiana Public Service Company.

Description: § 205(d) Rate Filing: Filing of a CIAC Agreement to be effective 5/18/2021.

Filed Date: 5/18/21.

Accession Number: 20210518-5044.

Comments Due: 5 p.m. ET 6/8/21.

Docket Numbers: ER21-1939-000.

Applicants: Duke Energy Progress, LLC.

Description: § 205(d) Rate Filing: DEP—Revised Depreciation Rates in Rate Schedule No. 199 to be effective 6/1/2021.

Filed Date: 5/18/21.

Accession Number: 20210518-5069.

Comments Due: 5 p.m. ET 6/8/21.

Docket Numbers: ER21-1940-000.

Applicants: Duke Energy Carolinas, LLC.

Description: § 205(d) Rate Filing: DEC—Revised Depreciation Rates to be effective 6/1/2021.

Filed Date: 5/18/21.

Accession Number: 20210518-5125.

Comments Due: 5 p.m. ET 6/8/21.

Docket Numbers: ER21-1941-000.

Applicants: PJM Interconnection, L.L.C.

Description: Tariff Cancellation: Notice of Cancellation of WMPA Service Agreement No. 5624, AE2-229 re: withdrawal to be effective 6/22/2021.

Filed Date: 5/18/21.

Accession Number: 20210518-5127.

Comments Due: 5 p.m. ET 6/8/21.

Docket Numbers: ER21-1942-000.

Applicants: PJM Interconnection, L.L.C.

Description: Tariff Cancellation: Notice of Cancellation of WMPA Service Agreement No.5613, AE2-225 re: withdrawal to be effective 6/22/2021.

Filed Date: 5/18/21.

Accession Number: 20210518-5142.

Comments Due: 5 p.m. ET 6/8/21.

Docket Numbers: ER21-1943-000.

Applicants: Southern California Edison Company.

Description: Notice of Termination of Interconnection Agreement of Southern California Edison Company.

Filed Date: 5/18/21.

Accession Number: 20210518-5167.

Comments Due: 5 p.m. ET 6/8/21.

Take notice that the Commission received the following electric securities filings:

Docket Numbers: ES21-47-000.

Applicants: GridLiance West LLC.

Description: Application under Section 204 of the Federal Power Act for Authorization to Issue Securities for GridLiance West LLC under ES21-47.

Filed Date: 5/17/21.

Accession Number: 20210517-5212.

Comments Due: 5 p.m. ET 6/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2021.
Debbie-Anne A. Reese,
Deputy Secretary.

[FR Doc. 2021-10942 Filed 5-24-21; 8:45 am]

BILLING CODE 6717-01-P